FEDERAL COMMUNICATIONS COMMISSION

Notice of Public Information Collection(s) Being Reviewed by the Federal Communications Commission, Comments Requested

July 7, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 12, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0105.

Title: Licensee Qualification Report.

Form No.: FCC 430.

Type of Review: Revision of currently approved collection.

Respondents: Businesses or other for-profit, not-for-profit institutions.

Number of Respondents: 1500.

Estimated Hours Per Response: 2 hours.

Frequency of Response: Reporting, on occasion and annually.

Cost to Respondents: $0.

Estimated Total Annual Burden: 3000 hours.

Needs and Uses: FCC Form 430 is filed by new applicants or annually by licensees if substantial changes occur in the organizational structure to provide information concerning corporate structure, alien ownership, and character of applicant or licensee. FCC 430 is also filed by applicants soliciting authority for assignment or transfer of control. The information will be used by the Commission to determine whether the applicant is legally qualified to become or remain a licensee, as required by the Communications Act.

OMB Control No.: 3060-0599.

Title: Implementation of Sections 3(n) and 332 of the Communications Act.

Form No.: N/A.

Type of Review: Extension.

Respondents: Business or other for-profit (P), Not-for-profit institutions, and State, Local or Tribal Government.

Number of Respondents: 10.

Estimated Time Per Response: 1.66 hours.

Frequency of Response: On occasion.

Total Annual Burden: 10.

Total Annual Cost: 4,854.00.

Needs and Uses: The information collected will create regulatory symmetry among similar mobile services. The symmetrical regulatory structure will promote competition in the mobile services marketplace and will serve the interests of consumers while also benefiting the national economy.

Federal Communications Commission.
Magalie Roman Salas,
Secretary.

[FR Doc. 00-17847 Filed 7-13-00; 8:45 am]

BILLING CODE 6712-01-P